DEPARTMENT OF VETERANS AFFAIRS

38 CFR Parts 4 and 61

RIN 2900-AN35

Posttraumatic Stress Disorder Nomenclature Changes

AGENCY: Department of Veterans Affairs.

ACTION: Final rule.

SUMMARY: This document amends the Department of Veterans Affairs (VA) regulations by making nonsubstantive changes. These changes are made for clarity and accuracy.

DATES: Effective Date: These amendments are effective April 23, 2009.

FOR FURTHER INFORMATION CONTACT: William F. Russo, Director, Regulations Management (02REG), Department of Veterans Affairs, 810 Vermont Avenue, NW., Washington, DC 20420, (202) 461-7566. (This is not a toll-free number).

SUPPLEMENTARY INFORMATION: VA is amending its regulations which contain the term “post-traumatic stress disorder” by changing that term to “posttraumatic stress disorder”. We have chosen to use the term “posttraumatic stress disorder” because it has become the standard term used by psychiatric professionals. See Diagnostic and Statistical Manual of Mental Disorders (4th ed.1994) (published by the American Psychiatric Association); see also Merck Manual of Medical Information (2nd edition 2003); and Dorland's Illustrated Medical Dictionary (31st edition 2007). No substantive changes are intended by these amendments.

Administrative Procedure Act

This final rule consists of nonsubstantive changes and, therefore, is not subject to the notice and comment and effective date provisions of 5 U.S.C. 553.

Unfunded Mandates

The Unfunded Mandates Reform Act requires, at 2 U.S.C. 1532, that agencies prepare an assessment of anticipated costs and benefits before issuing any rule that may result in an expenditure by State, local, or tribal governments, in the aggregate, or by the private sector of $100 million or more in any given year. This final rule would have no such effect on State, local, or tribal governments, or on the private sector.

Paperwork Reduction Act

This document contains no provisions constituting a collection of information under the Paperwork Reduction Act (44 U.S.C. 3501-3521).

Regulatory Flexibility Act

The Secretary hereby certifies that this regulatory amendment will not have a significant economic impact on a substantial number of small entities as they are defined in the Regulatory Flexibility Act, 5 U.S.C. 601-612. This amendment merely consists of nonsubstantive changes. Therefore, pursuant to 5 U.S.C. 605(b), this amendment is exempt from the initial and final regulatory flexibility analysis requirements of sections 603 and 604.

Catalog of Federal Domestic Assistance

The Catalog of Federal Domestic Assistance program numbers and titles are 64.100, Automobiles and Adaptive Equipment for Certain Disabled Veterans and Members of the Armed Forces; 64.101, Burial Expenses Allowance for Veterans; 64.104, Pension for Non-Service-Connected Disability for Veterans; 64.105, Pension to Veterans Surviving Spouses, and Children; 64.106, Specially Adapted Housing for Disabled Veterans; 64.109, Veterans Compensation for Service-Connected Disability; and 64.110, Veterans Dependency and Indemnity Compensation for Service-Connected Death.

List of Subjects

38 CFR Part 4

Disability benefits, Pensions, Veterans.

38 CFR Part 61

Administrative practice and procedure, Alcohol abuse, Alcoholism, Day care, Dental health, Drug abuse, Government contracts, Grant programs—health, Grant programs—veterans, Health care, Health facilities, Health professions, Health records, Homeless, Mental health programs, Reporting and recordkeeping requirements, Travel and transportation expenses, Veterans.

Approved: April 15, 2009.
William F. Russo,
Director of Regulations Management.

For the reasons set forth in the preamble, 38 CFR parts 4 and 61 are amended as follows:

PART 4—SCHEDULE FOR RATING DISABILITIES

1. The authority citation for part 4 continues to read as follows:

Authority: 38 U.S.C. 1155, unless otherwise noted.

Subpart B—Disability Ratings

§ 4.130 [Amended]

2. Section 4.130 is amended by revising “Post-traumatic” to read “Posttraumatic”.

Appendix B to Part 4—[Amended]

3. Appendix B to Part 4 is amended by revising “Post-traumatic” to read “Posttraumatic”.

Appendix C to Part 4—[Amended]

4. Appendix C to Part 4 is amended by revising “Post-traumatic” to read “Posttraumatic”.

PART 61—VA HOMELESS PROVIDERS GRANT AND PER DIEM PROGRAM

5. The authority citation for part 61 continues to read as follows:

Authority: 38 U.S.C. 501, 2002, 2011, 2012, 2061, 2064, 7721 note.

§ 61.1 [Amended]

6. In § 61.1, the definition of “Chronically mentally ill” is amended by revising “post-traumatic” to read “posttraumatic”.

[FR Doc. E9-8988 Filed 4-22-09; 8:45 am]

BILLING CODE P